DEPARTMENT OF HEALTH AND HUMAN SERVICES

Centers for Medicare and Medicaid Services

[CMS-10026]

Agency Information Collection Activities: Proposed Collection; Comment Request

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Reinstatement, without change, of a previously approved collection for which approval has expired;

Title of Information Collection: Survey of Medicare Beneficiaries Who Involuntarily Disenroll from their Health Plan;

Form No.: CMS-10026 (OMB# 0938-0817);

Use: In January 2002, many managed care plans are expected to withdraw from Medicare or reduce their service area. This will continue a trend that began in January 1999. CMS wishes to survey approximately 3,600 affected beneficiaries in early 2002 to determine how they were impacted by the withdrawals and whether they received sufficient information about options for replacing their managed care coverage.;

Frequency: Other: One-Time;

Affected Public: Individuals or Households;

Number of Respondents: 3,600;

Total Annual Responses: 3,600;

Total Annual Hours: 684.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Dawn Willinghan, CMS-10026, Room N2-14-26, 7500 Security Boulevard, Baltimore, Maryland 21244-1850.

Dated: July 18, 2001.
John P. Burke III,
CMS Reports Clearance Officer, CMS Office of Information Services, Security and Standards Group, Division of CMS Enterprise Standards.

[FR Doc. 01-18551 Filed 7-24-01; 8:45 am]

BILLING CODE 4120-03-P